DEPARTMENT OF COMMERCE

National Oceanic and Atmospheric Administration

Proposed Information Collection; Comment Request; Recreation/Tourism Study, Socioeconomic Monitoring Program for the Florida Keys National Marine Sanctuary

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 11, 2006.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be Dr. Vernon Leeworthy, 301-713-3000, extension 138, or Bob.Leeworthy@noaa.gov.

SUPPLEMENTARY INFORMATION:

I. Abstract

The purpose of this information collection is to obtain socioeconomic monitoring information in the Florida Keys National Marine Sanctuary (FKNMS). This is an approximately 10-year replication of a study done in 1995-96 entitled “Linking the Economy and Environment of the Florida Keys/Florida Bay” that provided baseline measures for recreation/tourism in the Florida Keys. The study also replicates measures on recreation/tourist uses of the reefs that were estimated for the baseline in 2000-2001 in a study entitled “Socioeconomic Study of Reefs in Southeast Florida”.

The study involves surveys on both visitors and residents of the Florida Keys/Monroe County. The visitors are different by season (summer versus winter) so separate estimates are made by season, while for residents annual estimates are made.

Information is collected on socioeconomic profiles, detailed recreation activity profiles, expenditures, non market economic use values, importance/satisfaction ratings on 25 natural resources attributes, facilities and services, and knowledge attitudes and perceptions of Sanctuary management strategies and regulations.

In addition, surveys of several businesses are to be conducted. A survey of for-hire recreational fishing guides is planned to gather information on knowledge, attitudes and perceptions of Sanctuary management strategies and regulations, especially the various zoning strategies. Short post card surveys are planned for Dive Shop Owners/Operators and Cruise Ship Operations to assess whether these businesses market customers based on the protected status of waters surrounding the Florida Keys.

II. Method of Collection

Interviews will generally be used. Visitors will be surveyed face-to-face while in the Florida Keys and will also be given mail-back questionnaires. Residents will be surveyed using mail-back questionnaires. For-hire recreational fishing guides will be surveyed at their homes or businesses by an interview team. Dive Shop Owners/Operators and Cruise Ship Operations will be sent post card mail surveys.

III. Data

OMB Number: None.

Form Number: None.

Type of Review: Regular submission.

Affected Public: Individuals or households; business or other for-profit organizations.

Estimated Number of Respondents: 16,020.

Estimated Time Per Response: Visitors: auto, air and cruise ship on-site surveys, 4 minutes; customer on-site surveys, 15 minutes; mail-back questionnaires, 20 minutes; resident surveys, 1 hour; business interviews; 2 hours; and business post card surveys, 5 minutes.

Estimated Total Annual Burden Hours: 10,469.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 6, 2006.
Gwellnar Banks,
Management Analyst, Office of the Chief Information Officer.

[FR Doc. E6-10896 Filed 7-11-06; 8:45 am]

BILLING CODE 3510-NK-P